NATIONAL FOUNDATION ON THE ARTS AND THE HUMANITIES

National Endowment for the Arts

Submission for OMB Review; Comment Request

The National Endowment for the Arts (NEA) has submitted a public information collection request (ICR) to the Office of Management and Budget (OMB) for review and approval in accordance with the Paperwork Reduction Act of 1995: Clearance Request for NEA ArtBeat Survey. Copies of this ICR, with applicable supporting documentation, may be obtained by visiting www.Reginfo.gov.

Comments should be sent to the Office of Information and Regulatory Affairs, Attn: OMB Desk Officer for the National Endowment for the Arts, Office of Management and Budget, Room 10235, Washington, DC 20503 202/395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Could help minimize the burden of the collection of information on those who are to respond, including through the use of electronic submission of responses through Grants.gov.

SUPPLEMENTARY INFORMATION: The Creative Placemaking Electronic Storybook Questionnaire is available upon request from research@arts.gov

Agency: National Endowment for the Arts

Title: Clearance Request for Creative Placemaking Electronic Storybook Questionnaire

OMB Number: 3135-XXXX

Frequency: One Time, FY14

Affected Public: Nonprofit organizations government agencies

Estimated Number of Respondents: 67

Estimated Time Per Respondent: 3 hours

Total Burden Hours: 201

Total Annualized Capital/Startup Costs: 0.

Total Annual Costs (Operating/Maintaining Systems or Purchasing Services): 0.

Description: The NEA is soliciting information concerning arts-based, creative placemaking projects that have been sponsored by the National Endowment for the Arts Our Town and Mayors' Institute on City Design 25th Anniversary Initiative (MICD25) programs. This information is designed to improve public understanding of communities' successes and challenges with creative placemaking through development of an “Electronic Storybook” to document community outcomes, lessons learned, and experiences associated with these projects. This interactive, online resource will be designed for use by policy-makers, practitioners, NEA applicants, and the public-at-large. The storybook will serve as a practical guide for communities planning or implementing their own creative placemaking projects.

Kathy Plowitz-Worden,
Panel Coordinator, National Endowment for the Arts.

[FR Doc. 2013-20090 Filed 8-16-13; 8:45 am]

BILLING CODE 7537-01-P